DEPARTMENT OF JUSTICE

Notice of Lodging of Consent Decree Under the Comprehensive Environmental Response, Compensation, and Liability Act of 1980 (“CERCLA”)

Consistent with Section 122(d) of the Comprehensive Environmental Response, Compensation, and Liability Act of 1980, as amended (“CERCLA”), 42 U.S.C. 9622(d), and 28 CFR 50.7, notice is hereby given that on September 1, 2009, the United States lodged a Consent Decree with certain third party defendants in United States of America v. El Dorado County, California, et al, Civil No. S-01-1520 MCE GGH (USDC E.D. CA.), with respect to the Meyers Landfill Site, located in Meyers, El Dorado County, California (the “Site”).

El Dorado County, California filed a Third Party Complaint for contribution against a number of third party defendants. The Consent Decree resolves the County's claims against eight of the third party defendants (Douglas County, Nevada; Hertz Corporation and Hertz Local Edition Corporation; Raley's; Lake Tahoe Unified School District; Harrah's Operating Company, Inc. And Harveys Tahoe Management Company, Inc.; Heavenly Valley Ski & Resort and Heavenly Valley; Sierra Pacific Power Company and Safeway, Inc. referred to collectively as “Settling Third Parties).'' Under the proposed Consent Decree the Settling Third Parties will pay a total of $1.25 million. Once the Consent Decree is approved the $1.25 million will be deposited into a court registry account and will be available, in the context of a judgment against or settlement with the County, to pay the United States' response costs at the Site, or to fund future response actions at the Site.

The United States is a party to the Consent Decree to resolve potential United States Department of Agriculture, Forest Service claims against Settling Third Parties. In exchange for the payment to the court registry account the Settling Third Parties will receive from the United States a covenant not to sue or to take administrative action pursuant to Sections 106 or 107 of Comprehensive Environmental Response, Compensation, and Liability Act of 1980 (“CERCLA”), 42 U.S.C. 9606 and 9607, as amended, for the United States' past and future response costs at the Site.

The Department of Justice will receive for a period of thirty (30) days from the date of this publication comments relating to the Consent Decree. Comments should be addressed to the Acting Assistant Attorney General, Environment and Natural Resources Division, and either e-mailed to pubcomment-ees.enrd@usdoj.gov or mailed to P.O. Box 7611, U.S. Department of Justice, Washington, DC 20044-7611, and should refer to United States of America v. El Dorado County, California, et al, Civil No. S-01-1520 MCE GGH (USDC E.D. CA.) (DOJ Ref. No. 90-11-3-06554).

The Consent Decree may be examined at U.S. Department of Agriculture, Office of General Counsel, 33 New Montgomery Street, 17th Floor, San Francisco, CA 94150 (contact Rose Miksovsky, (415) 744-3158). During the public comment period, the Consent Decree may also be examined on the following Department of Justice Web site, http://www.usdoj.gov/enrd/Consent_Decrees.html. A copy of the Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States of America v. El Dorado County, California, et al, Civil No. S-01-1520 MCE GGH (USDC E.D. CA.) (DOJ Ref. No. 90-11-3-06554), and enclose a check in the amount of $10.25 (25 cents per page reproduction cost) payable to the U.S. Treasury or, if by e-mail or fax, forward a check in that amount to the Consent Decree Library at the stated address.

Maureen Katz,
Assistant Section Chief, Environmental Enforcement Section, Environment and Natural Resources Division.

[FR Doc. E9-21485 Filed 9-4-09; 8:45 am]

BILLING CODE 4410-15-P